DEPARTMENT OF COMMERCE

National Oceanic and Atmospheric Administration

[RTID 0648-XE796]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Northeast Seafood Coalition, in partnership with the Massachusetts Division of Marine Fisheries (MA DMF). Regulations under the Magnuson-Stevens Fishery Conservation and Management Act require publication of this notification to provide interested parties the opportunity to comment on applications for proposed EFPs.

DATES: Comments must be received on or before April 28, 2025.

ADDRESSES: You may submit written comments by email at nmfs.gar.efp@noaa.gov. Include in the subject line “Targeted Inshore Cod Protection Closure Spawning Evaluation.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.81(d)(4)(i) and (ii) | Restrictions on fishing for Northeast (NE) multispecies, or having fishing gear capable of catching NE multispecies, on board a vessel in Gulf of Maine (GOM) Cod Protection Closure Area I and II | To collect data on the presence/absence of spawning cod in targeted areas of GOM Cod Protection Closure Area I and II.
50 CFR 648.83 | Restriction on retention of cod under the minimum fish size (TL) of 19 inches (48.3 cm) | To collect sex and maturity data of all cod caught in targeted areas of the spring GOM Cod Protection Closure Areas.

Table 2—Project Summary
Project title | Exploration of Targeted Commercial Groundfish Sector Access to Inshore Cod Protection Closures to better optimize overall yield of other allocated groundfish stocks and provide cod spawning information for the New England Fishery Management Council's Phase 2 of the Atlantic Cod Transition Plan.
Project start | 05/01/2025.
Project end | 06/30/2025.
Project objectives | To generate data to evaluate the nature of Western Gulf of Maine (WGOM) cod spawning activity in spring seasonal groundfish closures, in support of the New England Fishery Management Council priority to assess closures as part of Phase 2 of the Atlantic Cod Transition Plan. Assess ability of the groundfish fishing industry to harvest healthy groundfish stocks, without undermining groundfish conservation and management measures.
Project location | Statistical Areas 132 and 133.
Number of vessels | 14.
Number of trips | 128.
Trip duration (days) | 1.
Total number of days | 128.
Gear type(s) | Bottom trawl.
Number of tows or sets | Up to 3 per trip.
Duration of tows or sets | 4 hours.

Project Narrative

The purpose of this project is to evaluate the utility of seasonal cod protection closure areas, collect biological samples of cod, and support industry access to healthy groundfish stocks. Despite ongoing mortality and spawning closures, WGOM cod and other cod stocks remain in a depleted state. The applicant states that the closures are poorly aligned with the seasonal availability of non-cod stocks, which restricts opportunities to utilize available sector Annual Catch Entitlement (ACE) to target underutilized groundfish stocks.

Under this EFP, participating fishermen would conduct tows in targeted areas within spring GOM Cod Protection Closures I and II, where industry-based groundfish surveys previously demonstrated low spawning cod density compared to other portions of the closure. Vessels would submit trip notification to the Pre-Trip Notification System as usual. Vessels would only be allowed in targeted areas if they have a Northeast Fisheries Observer or At-Sea Monitor aboard, or participate in an approved electronic monitoring program for the trip. Tows conducted within the targeted areas would be restricted to remain inside the area for the entire tow; however, vessels could make tows both inside and outside the target area on the same trip. Upon departure for a trip, vessels would notify a MA DMF project coordinator about intent to fish in the target areas.

During all trips under this EFP, cod of all sizes caught in each tow conducted within the target areas would be kept round (not gutted), and isolated in separate totes with sealed and zip-tied lids. Cod caught in tows conducted outside the target areas would be handled consistent with standard fishing practices. Upon returning from a trip, vessels would contact MA DMF to meet them to sample target area-caught cod for sex and maturity. Additional sampling would be conducted to support the Northeast Fisheries Science Center conversion factor study. All catch would be accounted for consistent with standard fishing activities and applicable ACE, and legal size catch would be sold.

If MA DMF detects spawning cod caught in tows within the target areas to be at or above proposed thresholds, participating vessels would no longer be able to fish under the EFP. MA DMF defines spawning cod as females with clear eggs or males with running milt. The proposed thresholds are more than five spawning cod in one tow or more than 18 percent of tows within a 7-day consecutive fishing period contain spawning cod. MA DMF would immediately notify participating sector managers and National Marine Fisheries Service if a cod spawning threshold has been reached.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 8, 2025.
Karen H. Abrams,
Acting Director, Office of Sustainable Fisheries, National Marine Fisheries Service.

[FR Doc. 2025-06226 Filed 4-10-25; 8:45 am]

BILLING CODE 3510-22-P